NUCLEAR REGULATORY COMMISSION

Florida Power and Light Co.; Saint Lucie Plant, Units 1 and 2

Notice of Intent to Prepare An Environmental Impact Statement And Conduct Scoping Process; Correction

AGENCY: Nuclear Regulatory Commission.

ACTION: Notice of intent; correction.

SUMMARY: This document corrects a notice appearing in the Federal Register on February 28, 2002 (67 FR 9333), that informs the public that the NRC will be preparing an environmental impact statement in support of the review of the license renewal application and to provide the public an opportunity to participate in the environmental scoping process. This action is necessary to correct an incomplete electronic address.

FOR FURTHER INFORMATION CONTACT: Dr. Michael T. Masnik, Office of Nuclear Reactor Regulation, telephone (800) 368-5642, extension 1191.

SUPPLEMENTARY INFORMATION: On page 9334, in the third column, second paragraph, in the third sentence, the e-mail address is corrected to read: “ St Lucie EIS@nrc.gov.”

Dated at Rockville, Maryland, this 1st day of March, 2002.
For the Nuclear Regulatory Commission.
Michael T. Lesar,
Chief, Rules and Directives Branch, Division of Administrative Services, Office of Administration.

[FR Doc. 02-5460 Filed 3-6-02; 8:45 am]

BILLING CODE 7590-01-P